DEPARTMENT OF TRANSPORTATION

Federal Railroad Administration

Petitions for Waivers of Compliance

In accordance with Title 49 Code of Federal Regulations (CFR) section 211.41, and 49 U.S.C. 20103, this notice is hereby given that the Federal Railroad Administration (FRA) has received a request for a waiver of compliance from certain requirements of its safety regulations. The individual petition is described below, including the party seeking relief, the regulatory provisions involved, the nature of the relief being sought, and the petitioner's argument in favor of relief.

Canadian Pacific Railway; FRA Waiver Petition No. FRA-2003-15010

Canadian Pacific Railway (CP) located in Montreal, Canada, seeks a permanent waiver of compliance from 49 CFR 241.7(c), United States Locational Requirements for Dispatching of United States Rail Operations to allow the continuation of Canadian dispatching of that part of the Windsor Subdivision located in the United States, extending between Windsor, Ontario, Canada, and Detroit, Michigan, approximately 1.8 miles, as defined in appendix A to part 241. This request formalizes the request for waiver requirement contained in part 241, specifically § 241.7(c)(3), which refers to territory that was previously grandfathered in the exceptions to extraterritorial dispatching contained in FRA's Interim Final Rule (see 66 FR 63942, December 11, 2001).

In this regard, the track segment identified in the Interim Final Rule remains the same as identified above. All trains operated into the United States are of very short distances to an interchange point with a U.S. railroad and are always under the control of a single crew. All dispatching is conducted in English. All units of measure are the same as those used in the U.S. Because of the very short distances, all train operations in the U.S. are under the control of a single dispatching desk, located in CP's Network Management Center in Montreal, Quebec, Canada. CP operates approximately 6 to 8 trains a day over this segment. The trackage is operated under a Centralized Traffic Control system and consists of two main tracks for the entire 1.8 mile distance. Movements are governed by the Canadian Rail Operating Rules (CROR) and CP's Timetable and Special Instructions. CP's train dispatchers are covered under their company drug and alcohol policies and their dispatching office is under 24-hour security. Transport Canada Rail Safety Directorate has the legislative safety jurisdiction over CP in accordance with the provisions contained in the Railway Safety Act over all federally regulated railways operating in Canada.

Based on the foregoing, CP seeks a permanent waiver of compliance from 49 CFR 241.7(c), United States Locational Requirements for Dispatching of United States Rail Operations, to allow the continuation of Canadian dispatching on that part of the Windsor Subdivision located in the United States, between Windsor, Ontario, Canada, and Detroit, Michigan, approximately 1.8 miles.

Interested parties are invited to participate in this proceeding by submitting written views, data, or comments. FRA does not anticipate scheduling a public hearing in connection with the request for a waiver of certain regulatory provisions. If any interested party desires an opportunity for oral comment, he or she should notify FRA, in writing, before the end of the comment period and specify the basis for his or her request. All communications concerning these proceedings should identify the appropriate docket number (Docket Number FRA 2003-15010) and must be submitted to the DOT Docket Management Facility, Room PL-401 (Plaza level) 400 Seventh Street, SW., Washington, DC 20590. All documents in the public docket, including CP's detailed waiver request, are also available for inspection and copying on the Internet at the docket facility's Web site at http://dms.dot.gov. Communications received within 30 days of the date of this notice will be considered by FRA before final action is taken. Comments received after that date will be considered as far as practicable. All written communications concerning this proceeding are available for examination during regular business hours (9 a.m.-5 p.m.) at the above facility.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Issued in Washington, DC, on June 11, 2003.
Grady C. Cothen, Jr.,
Deputy Associate Administrator for Safety Standards and Program Development.

[FR Doc. 03-15391 Filed 6-17-03; 8:45 am]

BILLING CODE 4910-06-P